ENVIRONMENTAL PROTECTION AGENCY

[EPA-HQ-OAR-2012-0103; FRL 10814-01-OAR]

Proposed Information Collection Request Renewal; Comment Request; Clean School Bus (CSB) Rebate Program; EPA ICR No. 2461.05, OMB Control No. 2060-0686 (Renewal)

AGENCY: Environmental Protection Agency (EPA).

ACTION: Notice.

SUMMARY: The Environmental Protection Agency (EPA) is planning to submit an information collection request (ICR) renewal, “Clean School Bus (CSB) Rebate Program” (EPA ICR No. 2461.05, OMB Control No. 260-0686 (Renewal) to the Office of Management and Budget (OMB) for review and approval in accordance with the Paperwork Reduction Act. Before doing so, EPA is soliciting public comments on specific aspects of the proposed information collection as described below. An Emergency ICR No. 2780.01 was approved by OMB in September 2023 that included additional data necessary to adequately review and administer the CSB Rebate Program. This ICR renewal consolidates all components of the CSB Rebate Program collection and renews the existing ICR No. 2461.04, which is currently approved through August 31, 2025. An Agency may not conduct or sponsor, and a person is not required to respond to a collection of information, unless it displays a currently valid OMB control number.

DATES: Comments must be submitted on or before January 2, 2024.

ADDRESSES: Submit your comments, referencing Docket ID No. EPA-HQ-OAR-2012-0103, online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Timothy Thomas, Office of Transportation and Air Quality, (6406A), Environmental Protection Agency, 1200 Pennsylvania Ave. NW, Washington, DC 20460; telephone number: 734-214-4465; email address: thomas.tim.l@epa.gov.

SUPPLEMENTARY INFORMATION: Supporting documents that explain in detail the information that EPA will be collecting are available in the public docket for this ICR renewal. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The ICR renewal package will be submitted to OMB for review and approval.

Abstract:

This supporting statement is for the Information Collection Request (ICR) renewal for the Clean School Bus (CSB) Rebate Program. The CSB Rebate Program currently collects information under an existing ICR; namely the Diesel Emissions Reduction Act (DERA) and Clean School Bus Rebate Program ICR No. 2060-0686. The Environmental Protection Agency (EPA) currently uses ICR No. 2060-0686 to collect information for the CSB Rebate Program to ensure its successful administration and management. An Emergency ICR No. 2780.01 was approved by OMB in September 2023 that included additional data necessary to adequately review and administer the CSB Rebate Program. This ICR renewal consolidates all components of the CSB Rebate Program collection.

School buses collectively travel over four billion miles each year. They provide safe transportation to and from school for more than 25 million American children every day. While new buses meet the EPA's tighter emission standards, most school buses on the road emit pollutants, including nitrogen oxides (NOX) and particulate matter (PM), in diesel exhaust. These pollutants can contribute to poor air quality and negatively impact human health, especially for children, as well as for bus drivers, other school staff, and other community members. The CSB Rebate Program funds the replacement of existing school buses with cleaner buses, the operation of which result in better air quality throughout the communities in which they operate.

EPA uses approved procedures and forms to collect necessary information to operate the CSB Rebate Program and has been providing these rebates since 2022. For each rebate program, EPA utilizes three online forms for the three phases of the rebate lifecycle: (1) Application Form, for eligible entities to apply to a new rebate program, (2) Payment Request Form, for selectees to submit order documentation and receive funds, and (3) Close Out Form, for selectees to document completion of the rebate-eligible activity. In Fall 2023, EPA launched the 2023 CSB Rebate Application for applicants, and the 2022 CSB Rebate Close Out Form for existing 2022 program participants; EPA is currently preparing to launch the 2023 CSB Rebate Payment Request Form in early Spring of 2024. EPA will subsequently launch the 2023 CSB Rebate Close Out Form, as well as each rebate form for any future rebate programs (e.g., 2024 CSB Rebate Program). The data collected in these forms are needed to operate the rebate program as authorized by Congress under the CSB statute.

Respondents/affected entities: Entities potentially affected by this action are those interested in applying for a rebate under EPA's CSB Program and include but are not limited to the following NAICS (North American Industry Classification System) codes: 23 Construction; 482 Rail Transportation; 483 Water Transportation; 484 Truck Transportation; 485 Transit and Ground Passenger Transportation; 4854 School and Employee Bus Transportation; 61111 Elementary and Secondary Schools; 61131 Colleges, Universities, and Professional Schools; 9211 Executive, Legislative, and Other Government Support; and 9221 Justice, Public Order, and Safety Activities.

Respondent's obligation to respond: Mandatory for CSB rebate recipients.

Estimated number of respondents: 2,400 applicants annually.

Frequency of response: Once per year.

Total estimated burden: 19,763 hours for applicants annually and 59,289 hours for applicants over the ICR period. Burden is defined at 5 CFR 1320.03(b)

Changes in the estimates: There is an increase of 2,476 hours burden hours in the total estimated respondent burden compared with the ICR currently approved by OMB. This change is due to minor decreases to the respondent count for the Payment Request Form and Close Out Form, offset by increases to the respondents' time burden for all forms to more accurately reflect the time required for program participants to complete the forms given changes in program requirements and changes to the amount of time given to selectees to edit their forms.

Karl Simon,
Director, Transportation and Climate Division, Office of Air and Radiation.

[FR Doc. 2023-24292 Filed 11-2-23; 8:45 am]

BILLING CODE 6560-50-P